DEPARTMENT OF ENERGY

Federal Energy Regulatory Commission

Combined Notice of Filings #1

Take notice that the Commission received the following electric corporate filings:

Docket Numbers: EC24-117-000.

Applicants: Westlands Transmission, LLC.

Description: Application for Authorization Under Section 203 of the Federal Power Act of Westlands Transmission, LLC.

Filed Date: 9/3/24.

Accession Number: 20240903-5251.

Comment Date: 5 p.m. ET 9/24/24.

Take notice that the Commission received the following exempt wholesale generator filings:

Docket Numbers: EG24-272-000.

Applicants: Westlands Transmission Project Owner, LLC.

Description: Westlands Transmission Project Owner, LLC submits Notice of Self-Certification of Exempt Wholesale Generator Status.

Filed Date: 9/5/24.

Accession Number: 20240905-5114.

Comment Date: 5 p.m. ET 9/26/24.

Take notice that the Commission received the following electric rate filings:

Docket Numbers: ER24-2974-000.

Applicants: Florida Power & Light Company.

Description: § 205(d) Rate Filing: FPL & FMPA SA No. 350, Rice Creek Generator Imbalance Service to be effective 8/7/2024.

Filed Date: 9/5/24.

Accession Number: 20240905-5036.

Comment Date: 5 p.m. ET 9/26/24.

Docket Numbers: ER24-2975-000.

Applicants: Midcontinent Independent System Operator, Inc.

Description: § 205(d) Rate Filing: 2024-09-05_SA 3435 Entergy Mississippi-Wildwood Solar 3rd Rev GIA (J908) to be effective 8/28/2024.

Filed Date: 9/5/24.

Accession Number: 20240905-5051.

Comment Date: 5 p.m. ET 9/26/24.

Docket Numbers: ER24-2976-000.

Applicants: Puget Sound Energy, Inc.

Description: § 205(d) Rate Filing: Air Products Manufacturing Corporation—NITSA, NOA, IA to be effective 9/1/2024.

Filed Date: 9/5/24.

Accession Number: 20240905-5066.

Comment Date: 5 p.m. ET 9/26/24.

Docket Numbers: ER24-2977-000.

Applicants: American Transmission Company LLC, Midcontinent Independent System Operator, Inc.

Description: § 205(d) Rate Filing: American Transmission Company LLC submits tariff filing per 35.13(a)(2)(iii: 2024-09-05_SA 4347 ATC-WPL PCA (Project Wave) to be effective 11/5/2024.

Filed Date: 9/5/24.

Accession Number: 20240905-5085.

Comment Date: 5 p.m. ET 9/26/24.

Docket Numbers: ER24-2978-000.

Applicants: Midcontinent Independent System Operator, Inc.

Description: § 205(d) Rate Filing: 2024-09-05_MISO-AECI Amended Balancing Authority Coordination Agreement to be effective 11/5/2024.

Filed Date: 9/5/24.

Accession Number: 20240905-5094.

Comment Date: 5 p.m. ET 9/26/24.

Docket Numbers: ER24-2979-000.

Applicants: California Independent System Operator Corporation.

Description: § 205(d) Rate Filing: 2024-09-05 CRR Exchange Agreement—First Amendment—TANC to be effective 1/1/2025.

Filed Date: 9/5/24.

Accession Number: 20240905-5111.

Comment Date: 5 p.m. ET 9/26/24.

Docket Numbers: ER24-2980-000.

Applicants: PJM Interconnection, L.L.C.

Description: Tariff Amendment: Notice of Cancellation of ISA, SA No. 1767; Queue No. AB2-102 to be effective 9/30/2024.

Filed Date: 9/5/24.

Accession Number: 20240905-5120.

Comment Date: 5 p.m. ET 9/26/24.

Docket Numbers: ER24-2981-000.

Applicants: PJM Interconnection, L.L.C.

Description: Tariff Amendment: Notice of Cancellation—WMPA Service Agreement No. 5700; Queue No. AF1-001 to be effective 11/5/2024.

Filed Date: 9/5/24.

Accession Number: 20240905-5145.

Comment Date: 5 p.m. ET 9/26/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 5, 2024.
Debbie-Anne A. Reese,
Acting Secretary.

[FR Doc. 2024-20586 Filed 9-10-24; 8:45 am]

BILLING CODE 6717-01-P